DEPARTMENT OF THE INTERIOR

Fish and Wildlife Service

Receipt of Applications for Endangered Species Permits

AGENCY: Fish and Wildlife Service, Interior.

ACTION: Notice.

SUMMARY: The public is invited to comment on the following applications to conduct certain activities with endangered species.

DATES: We must receive written data or comments on these applications at the address given below, by June 23, 2006.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone (404) 679-4176; facsimile (404) 679-7081.

SUPPLEMENTARY INFORMATION: The public is invited to comment on the following applications for permits to conduct certain activities with endangered and threatened species. This notice is provided under section 10(c) of the Endangered Species Act of 1973, as amended (16 U.S.C. 1531 et seq.). If you wish to comment, you may submit comments by any one of the following methods. You may mail comments to the Service's Regional Office (see ADDRESSES section) or via electronic mail (e-mail) to victoria_davis@fws.gov. Please include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Department of Natural and Environmental Resources, Miquel A. Garcia, Cupey, Puerto Rico, TE125521-0.

The applicant requests authorization to take (examine, treat medically, release, monitor) the Puerto Rican parrot (Amazona vittata) while holding in captivity for rearing, performing captive rearing techniques, and re-establishing wild populations. The proposed activities would occur in the Rio Abajo Commonwealth Forest and the Abajo State Forest, Arecibo, Puerto Rico.

Applicant: Barbara P. Allen, Gulf Shores, Alabama, TE125557-0.

The applicant requests authorization to take (capture, identify, relocate nest, release) the following species: Alabama beach mouse (Peromyscus polionotus ammobates), Kemps ridley sea turtle (Lepidochelys kempii), green sea turtle (Chelonia mydas), loggerhead sea turtle (Caretta caretta), and gopher tortoise (Gopherus polyphemus) while conducting presence/absence surveys and nest monitoring activities. The proposed activities would occur in Mobile and Baldwin Counties, Alabama.

Applicant: James Bernard Akins, Jasper, Tennessee, TE125570-0.

The applicant requests authorization to take (capture, identify, release) the gray bat (Myotis grisescens) and Indiana bat (Myotis sodalis) while conducting presence/absence surveys. The proposed activities would occur at the Russell Cave National Monument, Jackson County, Alabama and Little River Canyon National Preserve, Dekalb County, Alabama.

Applicant: Robert W. Thomas, III, Hendersonville, North Carolina, TE125573-0.

The applicant requests authorization to take (capture, monitor nests, install inserts, band, release) the Red-cockaded woodpecker (Picoides borealis) while conducting presence/absence surveys, nest monitoring, artificial cavity creation using boxes and drilled cavities, and banding of juvenile and adult birds. The proposed activities would occur throughout the species range in the states of Georgia, North Carolina, South Carolina, Alabama, and Florida.

Applicant: Ouachita National Forest-Poteau Ranger District, Hot Springs, Arkansas, TE125590-0.

The applicant requests authorization to take (capture, identify, release) the American burying beetle (Nicrophorus americanus) while conducting presence/absence studies. The proposed activities would occur throughout the Ouachita National Forest, Arkansas and Oklahoma.

Applicant: Robert W. Thomas, III, Hendersonville, North Carolina, TE125573-0.

The applicant requests authorization to take (capture, monitor nests, install inserts, band, release) the Red-cockaded woodpecker (Picoides borealis) while conducting presence/absence surveys, nest monitoring, artificial cavity creation using boxes and drilled cavities, and banding of juvenile and adult birds. The proposed activities would occur throughout the species range in the states of Georgia, North Carolina, South Carolina, Alabama, and Florida.

Applicant: Jane L. Indorf, University of Miami, Coral Gables, Florida, TE125595-0.

The applicant requests authorization to take (capture, identify, collect tissue samples, release) the Rice rat (Oryzomys palustris natator) while conducting genetic research. The proposed activities would occur throughout the species range in the state of Florida.

Applicant: Ouachita National Forest, Richard L. Rosemier, Hot Springs, Arkansas, TE125605-0.

The applicant requests authorization to take (capture, identify, band, release) the Indiana bat (Myotis sodalis) while monitoring and conducting inventory surveys. The proposed activities would occur throughout the Ouachita National Forest in the states of Arkansas and Oklahoma.

Applicant: Burns & McDonnell Engineering Company, Inc., Brian R. Roh, Kansas City, Missouri, TE125620-0.

The applicant requests authorization to take (capture, identify, release) the American burying beetle (Nicrophorus americanus) while conducting presence/absence studies. The proposed activities would occur in Crawford County, Arkansas.

Applicant: USDA Forest Service, National Forest in Alabama, Steve Rickerson, Montgomery, Alabama, TE125740-0.

The applicant requests authorization to take (capture, monitor nests, install inserts, band, translocate, release) the Red-cockaded woodpecker (Picoides borealis) while conducting presence/absence surveys, nest monitoring, artificial cavity creation using boxes and drilled cavities, and banding of juvenile and adult birds. The proposed activities would occur throughout the species range in the Talladega National Forest and the Conecuh National Forest, Alabama. Also, translocation, Safe Harbor, and special assignments may occur throughout the species range.

Dated: May 10, 2006.
Noreen E. Walsh,
Acting Regional Director.

[FR Doc. E6-7906 Filed 5-23-06; 8:45 am]

BILLING CODE 4310-55-P